DEPARTMENT OF ENERGY

Federal Energy Regulatory Commission

Combined Notice of Filings #1

Take notice that the Commission received the following electric rate filings:

Docket Numbers: ER10-1827-004.

Applicants: Cleco Power LLC.

Description: Triennial Market Power Filing for Central Region of Cleco Power LLC.

Filed Date: 1/23/15.

Accession Number: 20150123-5292.

Comments Due: 5 p.m. ET 3/24/15.

Docket Numbers: ER10-2532-004.

Applicants: Crescent Ridge LLC.

Description: Notice of Non-Material Change in Status of Crescent Ridge LLC.

Filed Date: 1/23/15.

Accession Number: 20150123-5297.

Comments Due: 5 p.m. ET 2/13/15.

Docket Numbers: ER15-494-001.

Applicants: Duke Energy Dicks Creek, LLC.

Description: Tariff Amendment per 35.17(b): Response to Deficiency Letter to be effective 12/1/2014.

Filed Date: 1/26/15.

Accession Number: 20150126-5221.

Comments Due: 5 p.m. ET 2/17/15.

Docket Numbers: ER15-495-001.

Applicants: Duke Energy Killen, LLC.

Description: Tariff Amendment per 35.17(b): Response to Deficiency Letter to be effective 12/1/2014.

Filed Date: 1/26/15.

Accession Number: 20150126-5225.

Comments Due: 5 p.m. ET 2/17/15.

Docket Numbers: ER15-496-001.

Applicants: Duke Energy Zimmer, LLC.

Description: Tariff Amendment per 35.17(b): Response to Deficiency Letter to be effective 12/1/2014.

Filed Date: 1/26/15.

Accession Number: 20150126-5229.

Comments Due: 5 p.m. ET 2/17/15.

Docket Numbers: ER15-497-000.

Applicants: Duke Energy Ohio, Inc.

Description: Report Filing: Response to Deficiency Letter to be effective 11/29/2014.

Filed Date: 1/26/15.

Accession Number: 20150126-5259.

Comments Due: 5 p.m. ET 2/17/15.

Docket Numbers: ER15-498-001.

Applicants: Duke Energy Miami Fort, LLC.

Description: Tariff Amendment per 35.17(b): Response to Deficiency Letter to be effective 12/1/2014.

Filed Date: 1/26/15.

Accession Number: 20150126-5232.

Comments Due: 5 p.m. ET 2/17/15.

Docket Numbers: ER15-607-001.

Applicants: Duke Energy Stuart, LLC.

Description: Tariff Amendment per 35.17(b): Response to Deficiency Letter to be effective 12/1/2014.

Filed Date: 1/26/15.

Accession Number: 20150126-5234.

Comments Due: 5 p.m. ET 2/17/15.

Docket Numbers: ER15-902-000.

Applicants: Pacific Summit Energy LLC.

Description: Compliance filing per 35: Revised MBR Tariff to be effective 3/24/2015.

Filed Date: 1/23/15.

Accession Number: 20150123-5224.

Comments Due: 5 p.m. ET 2/13/15.

Docket Numbers: ER15-903-000.

Applicants: Cianbro Energy, LLC.

Description: Tariff Withdrawal per 35.15: Cancellation of MBR Tariff to be effective 2/1/2015.

Filed Date: 1/23/15.

Accession Number: 20150123-5228.

Comments Due: 5 p.m. ET 2/13/15.

Docket Numbers: ER15-904-000.

Applicants: Kennebec River Energy, LLC.

Description: Tariff Withdrawal per 35.15: Cancellation of MBR Tariff to be effective 1/23/2015.

Filed Date: 1/23/15.

Accession Number: 20150123-5307.

Comments Due: 5 p.m. ET 2/13/15.

Docket Numbers: ER15-905-000.

Applicants: PalletOne Energy, LLC.

Description: Tariff Withdrawal per 35.15: Cancellation of MBR Tariff to be effective 2/1/2015.

Filed Date: 1/23/15.

Accession Number: 20150123-5232.

Comments Due: 5 p.m. ET 2/13/15.

Docket Numbers: ER15-906-000.

Applicants: PacifiCorp.

Description: § 205(d) rate filing per 35.13(a)(2)(iii): Tri-State Construction Agmt—Deaver to be effective 1/21/2015.

Filed Date: 1/23/15.

Accession Number: 20150123-5253.

Comments Due: 5 p.m. ET 2/13/15.

Docket Numbers: ER15-907-000.

Applicants: PacifiCorp.

Description: § 205(d) rate filing per 35.13(a)(2)(iii): Tri-State NITSA Rev 6 to be effective 1/21/2015.

Filed Date: 1/26/15.

Accession Number: 20150126-5238.

Comments Due: 5 p.m. ET 2/17/15.

Take notice that the Commission received the following electric securities filings:

Docket Numbers: ES15-3-000.

Applicants: Xcel Energy Southwest Transmission Company, LLC.

Description: Supplement to October 31, 2014 Application under Section 204 of the Federal Power Act of Xcel Energy Southwest Transmission Company, LLC.

Filed Date: 1/26/15.

Accession Number: 20150126-5257.

Comments Due: 5 p.m. ET 2/5/15.

Docket Numbers: ES15-4-000.

Applicants: Xcel Energy Transmission Development Company, LLC.

Description: Supplement to October 31, 2014 Application under Section 204 of the Federal Power Act of Xcel Energy Transmission Development Company, LLC.

Filed Date: 1/26/15.

Accession Number: 20150126-5210.

Comments Due: 5 p.m. ET 2/5/15.

Take notice that the Commission received the following electric reliability filings:

Docket Numbers: RR15-5-000.

Applicants: North American Electric Reliability Corp.

Description: Petition for Approval of Amendments to the Delegation Agreement of Southwest Power Pool, Inc. Submitted by the North American Electric Reliability Corporation.

Filed Date: 1/23/15.

Accession Number: 20150123-5315.

Comments Due: 5 p.m. ET 2/13/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 26, 2015.
Nathaniel J. Davis, Sr.,
Deputy Secretary.

[FR Doc. 2015-02009 Filed 2-2-15; 8:45 am]

BILLING CODE 6717-01-P